DEPARTMENT OF TRANSPORTATION

National Highway Traffic Safety Administration

[Docket No. NHTSA 2000-7657]

General Motors North America, Inc., Receipt of Application for Decision of Inconsequential Noncompliance

General Motors North America, Inc., (GM) has determined that some 1995-1999 model year GM vehicles including Chevrolet and GMC light duty trucks, the Oldsmobile Bravada, Cadillac Escalade, and Pontiac Grand Prix, and Isuzu light duty trucks do not comply with Federal Motor Vehicle Safety Standard (FMVSS) No. 118, Power-operated window, partition, and roof panel systems. The depression of the hazard warning flasher switch to its limit of travel may activate the retained accessory power (RAP) feature with no key in the ignition. This condition would not meet the operation requirements of S4 of FMVSS 118. A total of 973,922 GM vehicles and 1,540 Isuzu trucks may have this condition. Pursuant to 49 U.S.C. 30118(d) and 30120(h), GM has petitioned for a determination that the noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The hazard warning system flasher switch in the noncompliant vehicles is a pushbutton that operates as a “push-on /push-off” switch. To turn the hazard flasher lamps on, the switch is pushed down (depressed) and then released. To turn the hazard flasher lamps off, the switch is depressed a second time and then released.

S4 of FMVSS 118 specifies conditions under which power-operated windows and roof panels may be closed. The relevant portions of S4 require that either the ignition key be in the “ON”, “START”, or “ACCESSORY” positions (S4(a)), or, in S4(e), that activation be possible only during the interval between removal of the ignition key and opening of either front door. In the affected vehicles, it is possible for the RAP feature to be activated when the hazard flasher switch is at the bottom of travel, whether or not a key is in the ignition.

Under certain conditions, unintended or so-called “sneak circuits” may exist if the switch is being depressed and is manually held to its full extent of travel. The sneak circuits disappear when the switch is released. The presence of these sneak circuits can cause the RAP feature to be activated when the key is not in the ignition.

If activated, the RAP would remain operational for up to 20 minutes, depending on the vehicle model, or until a door handle is pulled, whichever occurs first. In some vehicles only the front door handles will deactivate the RAP, while in other models the rear door handles also will deactivate it. While the RAP is activated, it is possible to operate certain vehicle controls, including the power window and sunroof controls.

There are two methods by which RAP can be activated in these vehicles when the key has been removed from the ignition. The first requires depression of the hazard switch to the extreme bottom of travel with some lateral force applied to it. In most switches, RAP cannot be activated by this method, even intentionally by experts attempting to do so. In testing conducted by GM in relation to this condition, GM reports that no child activated RAP by this method.

The second method to activate RAP requires the simultaneous operation of the hazard switch and the service brake. Even if left alone and unattended in a parked vehicle, an individual child would not be likely to depress the hazard switch and the brake pedal simultaneously. In testing conducted by GM the company reports that no individual child ever simultaneously operated the brake and the hazard warning switch.

GM believes that this noncompliance with FMVSS 118 is inconsequential to motor vehicle safety. Its reasoning is that a number of specific events, each of which has a low possibility of occurring, all would have to occur before an opportunity would exist in which a person could be injured by a power operated window or sunroof.

The petitioner has indicated that the noncompliance will not result in any safety, reliability or serviceability concern for the vehicle operator.

Interested persons are invited to submit written data, views, and arguments on the application described above. Comments should refer to the docket number and be submitted to: U.S. Department of Transportation, Docket Management, Room PL-401, 400 Seventh Street, SW., Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: September 6, 2000.

(49 U.S.C. 301118, 301120; delegations of authority at 49 CFR 1.50 and 501.8)
Issued on: August 1, 2000.
Stephen R. Kratzke,
Associate Administrator for Safety Performance Standards.

[FR Doc. 00-19920 Filed 8-4-00; 8:45 am]

BILLING CODE 4910-59-P